DEPARTMENT OF DEFENSE

Defense Acquisition Regulations System

48 CFR Part 239

Defense Federal Acquisition Regulation Supplement; Technical Amendment

AGENCY: Defense Acquisition Regulations System. Department of Defense (DoD).

ACTION: Final rule.

SUMMARY: DoD is issuing a technical amendment to the Defense Federal Acquisition Regulation Supplement (DFARS) to change a DoD Directive number for DoD Directive 8570.01 Information Assurance Training, Certification, and Workforce Management, certified current as of April 23, 2007.

DATES: Effective Date: June 21, 2010.

FOR FURTHER INFORMATION CONTACT: Ms. Ynette R. Shelkin, Defense Acquisition Regulations System, OUSD (AT&L) DPAP (DARS), Room 3B855, 3060 Defense Pentagon, Washington, DC 20301-3060. Telephone 703-602-8384; facsimile 703-602-0350.

SUPPLEMENTARY INFORMATION: This final rule amends DFARS text at 239.7102-1(a)(7) by correcting the DoD Directive number from 8570.1 to 8570.01 in a list of current information assurance policies, procedures, and statutes pertaining to information technology.

List of Subjects in 48 CFR Part 239

Government procurement

Ynette R. Shelkin,
Editor, Defense Acquisition Regulations System.

Therefore DoD is amending 48 CFR part 239 as follows:

PART 239—ACQUISITION OF INFORMATION TECHNOLOGY

1. The authority citation for 48 CFR part 239 continues to read as follows:

Authority: 41 U.S.C. 421 and 48 CFR chapter 1.

2. In 239.7102-1, revise paragraph (a)(7) to read as follows:

239.7102-1 General.

(a) * * *

(7) DoD Directive 8570.01, Information Assurance Training, Certification, and Workforce Management; and

* * * * *

[FR Doc. 2010-14936 Filed 6-18-10; 8:45 am]

BILLING CODE 5001-08-P